DEPARTMENT OF THE INTERIOR

Bureau of Land Management

[LLNVSO3000.L71220000.EU0000.LVTFF1101700; N-86294; 11-08807; MO#4500020396; TAS: 14X5232]

Notice of Realty Action: Modified-Competitive Sale of Public Land in Pahrump, Nye County, NV

AGENCY: Bureau of Land Management, Interior.

ACTION: Notice of Realty Action.

SUMMARY: The Bureau of Land Management (BLM) proposes to offer one parcel of public land totaling approximately 120 acres in Pahrump, Nye County, Nevada, by modified-competitive, sealed-bid sale at not less than the appraised fair market value (FMV) of $645,000. The sale will be subject to the applicable provisions of Sections 203 and 209 of the Federal Land Policy and Management Act of 1976 (FLPMA) and other BLM land sale and mineral conveyance regulations.

DATES: Interested parties may submit written comments regarding the proposed sale and the environmental assessment (EA) until April 19, 2012.

Sealed bids may be mailed or delivered to the BLM Pahrump Field Office, at the address below, beginning April 19, 2012. Sealed bids must be received no later than 4:30 p.m. Pacific Time, May 4, 2012 in accordance with the sale procedures. The BLM will open the sealed bids on May 7, 2012 at the BLM Pahrump Field Office.

ADDRESSES: Mail written comments to the BLM Pahrump Field Manager, Pahrump Field Office, 4701 N. Torrey Pines Drive, Las Vegas, NV 89130.

FOR FURTHER INFORMATION CONTACT: Jill Pickren, (702) 515-5194, or email: jill_pickren@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Nye County Board of Commissioners supports the Spring Mountain Raceway, LLC's request for the disposal of public land by direct sale or modified-competitive sale within the Town of Pahrump. The Nye County Manager's Office requested the BLM to consider and make a determination whether to conduct a direct or modified-competitive sale of the 120-acre parcel favoring Spring Mountain Raceway, LLC. The public land directly abuts property owned by Spring Mountain Raceway, LLC, along State Route 160 near Gamebird Road in Nye County.

The following lands are proposed for disposal.

Mount Diablo Meridian

T. 20 S., R. 54 E.,

Sec. 34, W½NW¼ and NW¼SW¼.

The area described contains 120 acres, more or less, in Nye County, Nevada.

The BLM determined that a modified-competitive method of sale would be the appropriate method for disposal of this parcel. This sale meets the criteria found in 43 CFR 2710.0-3(a)(2) because this disposal serves important public objectives, including but not limited to, expansion of communities and economic development, which cannot be achieved prudently or feasibly on other lands.

According to Nye County, the Spring Mountain Raceway, LLC, would develop certain private businesses on the parcel proposed for sale and would provide infrastructure, such as water and sewer lines, to the property at an estimated expense of $2 million. This extension of utility services would also serve the undeveloped county fairground site directly across State Route 160, from the parcel. Spring Mountain Raceway, LLC, proposes to construct a racetrack on the requested parcel that would be open to the public. The only public racetrack in Pahrump was permanently closed in 2007 and the nearest public racing venue is the Death Valley racetrack about 30 miles away in Amargosa Valley, Nevada. Along with water and sewer lines, roadways would be constructed to provide public access to the property and the developments. The authorized officer has identified Spring Mountain Raceway, LLC, as the designated bidder for this parcel.

The use of the modified-competitive sale method is consistent with 43 CFR 2711.3-2(a)(1)(i) because the authorized officer has determined it is necessary in order to assure equitable distribution of land among purchasers or to recognize equitable considerations or public policies.

The proposed FLPMA sale parcel, N-86294, is being analyzed in environmental assessment number DOI-BLM-NV-S010-2010-0116-EA. Upon publication of this notice the EA is available at the BLM Pahrump Field Office for public review and comments. Only written comments will be considered properly filed. Submit comments at the address in the ADDRESSES section.

Before including your address, phone number, email address, or other personal identifying information in your comment—you should be aware that your entire comment, including your personal identifying information—may be made publicly available at any time. While you can ask us in your comment to withhold your personal identifying information from public review, we cannot guarantee that we will be able to do so.

Information concerning the sale, appraisal, reservations, sale procedures and conditions, CERCLA, map delineating the proposed sale parcel, mineral potential report, EA, and other environmental documents will be available for review at the BLM Pahrump Field Office, or by calling (702) 515-5000 and asking to speak to a member of the sales team.

This public sale is in conformance with the BLM Las Vegas Resource Management Plan (RMP), approved by Record of Decision on October 5, 1998. The BLM has determined that the proposed action conforms to the Las Vegas RMP and Final Environmental Impact Statement decision, LD-1 under the authority of the FLPMA to dispose of public lands.

Sale Segregation: Publication of this notice in the Federal Register segregates the subject lands from all appropriations under the public land laws, including the general mining laws, except sale under the FLPMA. The segregation will terminate: (i) Upon issuance of a patent or other document of conveyance to such lands; (ii) Upon publication in the Federal Register of a termination of the segregation; or (iii) At the end of 2 years from the date of this publication in the Federal Register, whichever occurs first.

On publication of this notice and until completion of the sale, the BLM is no longer accepting land-use applications affecting the parcel identified for sale. However, land-use applications may be considered after completion of the sale if the parcel is not sold. The parcel may be subject to land-use applications received prior to publication of this notice if processing the application would have no adverse effect on the marketability of title, or the FMV of a parcel. Encumbrances of record that may appear in the BLM public files for the parcel proposed for sale are available for review during business hours, 7:30 a.m. to 4:30 p.m., Pacific Time, Monday through Friday at the BLM Pahrump Field Office except during federally recognized holidays.

The parcel is subject to limitations prescribed by law and regulation, and prior to patent issuance, a holder of any right-of-way within the parcel may be given the opportunity to amend the right-of-way for conversion to a new term, including perpetuity, if applicable, or an easement. In accordance with regulations at 43 CFR 2807.15(b), the BLM notified the valid existing right-of-way holders by letter of their ability to convert their rights-of-way to perpetual rights-of-way or easements. None of the holders requested conversion of their current authorizations, so the BLM will continue to administer their rights-of-way as authorized after the sale.

Terms and Conditions: Certain minerals for the parcel will be reserved to the United States in accordance with the BLM's approved Mineral Potential Report, dated March 22, 2000, and updated June 23, 2011. An offer to purchase the parcel will constitute an application for mineral conveyance of the “no known value” mineral interests. In conjunction with the final payment, the applicant will be required to pay a $50 non-refundable filing fee for processing the conveyance of the “no known value” mineral interests which will be sold simultaneously with the surface interests.

The following numbered terms, conditions, and reservations will appear on the conveyance documents for these parcels:

1. All saleable mineral deposits in the lands are reserved to the United States, its permittees, licensees, and lessees together with the right to prospect for, mine, and remove such under applicable law and any regulations that the Secretary of the Interior may prescribe, together with all necessary access and exit rights;

2. A right-of-way is reserved for ditches and canals constructed by authority of the United States under the Act of August 30, 1890 (43 U.S.C. 945);

3. The parcel is subject to valid existing rights;

4. Right-of-way N-46682 for waterline purposes granted to Central Nevada Utilities, its successors or assigns pursuant to the Act of October 21, 1976 (43 U.S.C. 1761) is reserved;

5. Right-of-way Nev-057100 for power line purposes granted to Valley Electric Association, its successors or assigns, pursuant to the Act of October 21, 1976 (43 U.S.C. 1761) is reserved;

6. Right-of-way Nev-059100 for power line purposes granted to Valley Electric Association, its successors or assigns, pursuant to the Act of October 21, 1976 (43 U.S.C. 1761) is reserved;

7. The parcel is subject to reservations for roads, public utilities and flood control purposes, both existing and proposed, in accordance with the local governing entities' transportation plans;

8. An appropriate indemnification clause protecting the United States from claims arising out of the patentee's use, occupancy, or occupation of the patented lands will be included;

9. Pursuant to the requirements established by Section 120(h) of the Comprehensive Environmental Response, Compensation and Liability Act, 42 U.S.C. 9620(h) (CERCLA), as amended by the Superfund Amendments and Reauthorization Act of 1988, 100 Stat. 1670, notice is hereby given that the above-described lands have been examined and no evidence was found to indicate that any hazardous substances have been stored for 1 year or more, nor had any hazardous substances been disposed of or released on the subject property.

No warranty of any kind, express or implied, is given by the United States as to the title, whether or to what extent the land may be developed, its physical condition, future uses, or any other circumstance or condition. The conveyance of the parcel will not be on a contingency basis. However, to the extent required by law, the parcel is subject to the requirements of Section 120(h) of the CERCLA.

Sale procedures: The designated bidder must appoint an authorized representative for this sale by submitting in writing a notarized document which also identifies the level of capacity given to the authorized representative. The authorized representative of the designated bidder must be present at the sale. If the authorized representative does not submit the highest bid, the authorized representative will have the opportunity to meet and accept the high bid as the purchase price of the parcel. Should the authorized representative refuse to meet the high bid, the party submitting the high bid will be declared the successful bidder in accordance with regulations at 43 CFR 2711.3-2(c). Consistent with 43 CFR 2711.3-2 (e), acceptance or rejection of any offer to purchase shall be in accordance with the procedures set forth in 43 CFR 2711.3-1(f) and (g).

Sealed bids will be presented for the sale parcel. Sealed-bid envelopes must be clearly marked on the front lower left corner with: “SEALED BID BLM LAND SALE” and the identification number for the sale parcel “BLM SERIAL NUMBER N-86294.”

Each sealed bid shall be accompanied by a cashier's check, certified check, or U.S. postal money order, and made payable in U.S. dollars to “Department of the Interior—Bureau of Land Management” for not less than 20 percent of the amount bid. Personal or company checks will not be accepted. The sealed-bid envelope shall also include a completed and signed Certificate of Eligibility.

Sealed bids will be opened and recorded to determine the high bidder on May 7, 2012, 10 a.m., Pacific Time at the Pahrump Field Office. The highest bidder among the qualified bids received for the sale will be announced under 43 CFR 2711.3-1(d). Following the end of the sale, all bid deposits will be returned to the unsuccessful bidders if present or by certified mail. If the winning bidder defaults on the parcel, the BLM may retain the bid deposit and cancel the sale. If the high bidder is unable to consummate the transaction for any reason, the second-highest bid may be considered for award. The BLM will send the successful bidder a high-bidder letter with detailed information for full payment.

Pursuant to regulations 43 CFR 2711.2, bidders must be (1) United States citizens 18 years of age or older; (2) A corporation subject to the laws of any State or of the United States; (3) An entity including, but not limited to associations or partnerships capable of acquiring and owning real property, or interests therein, under the laws of the State of Nevada; or (4) A State, State instrumentality, or political subdivision authorized to hold real property. United States citizenship is evidenced by presenting a birth certificate, passport, or naturalization papers. Failure to submit the above requested documents to the BLM within 30 days from receipt of the high-bidder letter shall result in cancellation of the sale and forfeiture of the bid deposit.

Within 30 days of the bid opening, the BLM will, in writing, either accept or reject all bids received. No contractual, or other rights against the United States, may accrue until the BLM officially accepts the offer to purchase and the full bid price is paid.

Unless other satisfactory arrangements are approved in advance by a BLM authorized officer, conveyance of title shall be through the use of escrow. Designation of the escrow agent shall be through mutual agreement between the BLM and the prospective patentee, and costs of escrow shall be borne by the prospective patentee.

Requests for all escrow instructions must be received by the Pahrump Field Office prior to 30 days before the prospective patentee's scheduled closing date. There are no exceptions.

No contractual or other rights against the United States may accrue until the BLM officially accepts the offer to purchase, and the full bid price is submitted by the 180th day following the sale.

All name changes and supporting documentation must be received at the BLM Pahrump Field Office 30 days from the date on the high-bidder letter by 4:30 p.m., Pacific Time. Name changes will not be accepted after that date. To submit a name change, the apparent high bidder must submit the name change on the Certificate of Eligibility to the BLM Pahrump Field Office in writing. Certificates of Eligibility are available at the Pahrump Field Office and on the BLM Web site at: http://www.blm.gov/nv/st/en/snplma/Land_Auctions.html.

The remainder of the full bid price for the parcel must be paid prior to the expiration of the 180th day following the close of the sale. Payment must be submitted in the form of a certified check, postal money order, bank draft or cashier's check made payable in U.S. dollars to the “Department of the Interior—Bureau of Land Management.” Personal or company checks will not be accepted.

Arrangements for electronic fund transfer to the BLM for payment of the balance due must be made a minimum of 2 weeks prior to the payment date. Failure to pay the full bid price prior to the expiration of the 180th day will disqualify the apparent high bidder and cause the entire 20 percent bid deposit to be forfeited to the BLM. Forfeiture of the 20 percent bid deposit is in accordance with 43 CFR 2711.3-1(d). No exceptions will be made. The BLM cannot accept the full bid price after the 180th day of the sale date.

The BLM will not sign any documents related to 1031 Exchange transactions. The timing for completion of the exchange is the bidder's responsibility in accordance with Internal Revenue Service's regulations. The BLM is not a party to any 1031 Exchange.

All sales are made in accordance with and subject to the governing provisions of law and applicable regulations.

In accordance with 43 CFR 2711.3-1(f), the BLM may accept or reject any or all offers to purchase, or withdraw any parcel of land or interest therein from sale, if, in the opinion of a BLM authorized officer, consummation of the sale would be inconsistent with any law, or for other reasons.

The parcel, if not sold by modified-competitive, sealed-bid sale, may be identified for sale at a later date without further legal notice.

In order to determine the FMV certain assumptions may have been made concerning the attributes and limitations of the land and potential effects of local regulations and policies on potential future land uses. Through publication of this notice, the BLM advises that these assumptions may not be endorsed or approved by units of local government. It is the bidder's responsibility to be aware of all applicable Federal, State, and local government laws, regulations and policies that may affect the subject lands, including any required dedication of lands for public uses. It is also the bidder's responsibility to be aware of existing or prospective uses of nearby properties. When conveyed out of Federal ownership, the lands will be subject to any applicable laws, regulations, and policies of the applicable local government for proposed future uses. It will be the responsibility of the purchaser to be aware through due diligence of those laws, regulations, and policies, and to seek any required local approvals for future uses. Bidders should also make themselves aware of any Federal or State law or regulation that may impact the future use of the property. Any land lacking access from a public road or highway will be conveyed as such, and future access acquisition will be the responsibility of the buyer.

Any adverse comments regarding the proposed sale will be reviewed by the BLM Nevada State Director, who may sustain, vacate, or modify this realty action. In the absence of any valid adverse comments, this realty action will become the final determination of the Department of the Interior.

Authority: 43 CFR part 2711.

Mark R. Spencer,
Field Manager, Pahrump Field Office.

[FR Doc. 2012-5172 Filed 3-2-12; 8:45 am]

BILLING CODE 4310-HC-P